DEPARTMENT OF AGRICULTURE

Office of the Secretary

7 CFR Part 2

Revision of Delegations of Authority

AGENCY: Department of Agriculture.

ACTION: Final rule.

SUMMARY: This final rule revises certain delegations of authority by the Secretary of Agriculture published at 7 CFR part 2. The Secretary delegates to the Assistant Secretary for Administration authority to serve as the USDA Chief Freedom of Information Act Officer; delegates to the Department of Agriculture Chief Information Officer the authority to appoint the USDA Privacy Act Officer; and, removes those delegations from the Department of Agriculture Director of the Office of Communications.

DATES: Effective Date: April 29, 2009.

FOR FURTHER INFORMATION CONTACT: Rita Morgan, USDA FOIA Service Center, 202-720-8164.

SUPPLEMENTARY INFORMATION: On December 31, 2007, the Openness Promotes Effectiveness in our National Government Act of 2007 became effective. It directs the head of each agency to appoint a senior official to serve as the Chief Freedom of Information Act Officer.

Therefore, this document amends 7 CFR part 2 section 2.24 of the delegations of authority by the Secretary of Agriculture to the Assistant Secretary of Agriculture for Administration to serve as Department of Agriculture Chief Freedom of Information Act Officer; amends 7 CFR part 2 section 2.37 of the delegations of authority by the Secretary of Agriculture to the Chief Information Officer to appoint a Department of Agriculture Privacy Act Officer; and further amends 7 CFR Part 2 section 2.36 to remove those delegations by the Secretary of Agriculture to the Director of the Office of Communications.

The Chief Freedom of Information Act Officer is responsible to oversee efficient and appropriate compliance with the provisions of the Freedom of Information Act (5 U.S.C. 552); to monitor implementation of 5 U.S.C. 552 throughout the agency and to keep the Secretary, the General Counsel, and the Attorney General informed regarding agency performance of that implementation; to recommend to the Secretary any necessary adjustments to agency practices, policies, personnel, and funding to improve the implementation of 5 U.S.C. 552; to review agency implementation and report to the Attorney General, through the Secretary, as the Attorney General may direct; and, to facilitate public understanding of the purposes of the statutory exemptions contained in 5 U.S.C. 552.

The delegation of authority to the Chief Information Officer related to the Privacy Act reflects the practice that is already in place.

This rule relates to internal agency management. Therefore, pursuant to 5 U.S.C. 553(a)(2), notice of proposed rulemaking and opportunity for comment are not required, and this rule may be made effective less than 30 days after publication in the Federal Register. Further, because this rule relates to internal agency management, it is exempt from the provisions of Executive Orders Nos. 12291 and 12866. Finally, this action is not a rule as defined by the Regulatory Flexibility Act, 5 U.S.C. 601 et seq., and is, therefore, exempt from the provisions of the Act. Accordingly, as authorized by 5 U.S.C. 808, this rule may be made effective upon publication.

List of Subjects in 7 CFR Part 2

Authority delegations (government agencies).

Accordingly, Title 7 of the Code of Federal Regulations is amended as set forth below.

PART 2—DELEGATIONS OF AUTHORITY BY THE SECRETARY OF AGRICULTURE AND GENERAL OFFICERS OF THE DEPARTMENT

1. The authority citation for part 2 continues to read as follows:

Authority: 7 U.S.C. 6912(a); 5 U.S.C. 301; Reorganization Plan No. 2 of 1953, 3 CFR parts 1949-1953 Comp. p. 1024.

Subpart C—Delegations of Authority to the Deputy Secretary, the Under Secretaries and Assistant Secretaries

2. Section 2.24 is amended by adding paragraph (a)(3) to read as follows:§ 2.24 Assistant Secretary for Administration.

(a) * * *

(3) Related to the Freedom of Information Act. (i) Serve as the Chief Freedom of Information Act Officer for the Department.

(ii) Oversee general officers and agency heads in efficient and appropriate compliance with the provisions of the Freedom of Information Act (5 U.S.C. 552); monitor implementation of 5 U.S.C. 552 throughout the agency and keep the Secretary, the General Counsel, and the Attorney General informed regarding agency performance in its implementation; recommend to the Secretary necessary adjustments to agency practices, policies, personnel, and funding to improve implementation of 5 U.S.C. 552; review and report to the Attorney General, through the Secretary, as the Attorney General may direct; and, facilitate public understanding of the purposes of the statutory exemptions contained in 5 U.S.C. 552.

* * * * *

Subpart D—Delegation of Authority to Other General Officers and Agency Heads

3. Section 2.36 is amended by removing and reserving paragraph (a)(2)(viii) to read as follows:

§ 2.36 Director, Office of Communications.

(a) * * *

(2) * * *

(viii) [Reserved]

* * * * *

4. Section 2.37 is amended by adding paragraph (b) to read as follows:

§ 2.37 Chief Information Officer.

* * * * *

(b) Related to the Privacy Act. (i) Appoint a Department Privacy Act Officer.

(ii) Oversee general officers and agency heads in the development and implementation of policies issued pursuant to the provisions of the Privacy Act, 5 U.S.C. 552a, and provide consultation and guidance regarding those policies.

Thomas J. Vilsack,
Secretary of Agriculture.

[FR Doc. E9-9726 Filed 4-28-09; 8:45 am]

BILLING CODE 3410-01-P